DEPARTMENT OF DEFENSE

Department of the Army

[Docket ID: USA-2008-0014]

Privacy Act of 1974; System of Records

AGENCY: Department of the Army, DoD.

ACTION: Notice To Alter a System of Records.

SUMMARY: The Department of the Army is proposing to alter a system of records in its existing inventory of records systems subject to the Privacy Act of 1974, (5 U.S.C. 552a), as amended.

DATES: The proposed action will be effective on August 6, 2008 unless comments are received that would result in a contrary determination.

ADDRESSES: Department of the Army, Freedom of Information/Privacy Office, U.S. Army Records Management and Declassification Agency, 7701 Telegraph Road, Casey Building, Suite 144, Alexandria, VA 22325-3905.

FOR FURTHER INFORMATION CONTACT: Ms. Vicki Short at (703) 428-6508.

SUPPLEMENTARY INFORMATION: The Department of the Army systems of records notices subject to the Privacy Act of 1974, (5 U.S.C. 552a), as amended, have been published in the Federal Register and are available from the address above.

The proposed system report, as required by 5 U.S.C. 552a(r) of the Privacy Act of 1974, as amended, was submitted on June 25, 2008, to the House Committee on Oversight and Government Reform, the Senate Committee on Homeland Security and Governmental Affairs, and the Office of Management and Budget (OMB) pursuant to paragraph 4c of Appendix I to OMB Circular No. A-130, “Federal Agency Responsibilities for Maintaining Records About Individuals,” dated February 8, 1996 (February 20, 1996, 61 FR 6427).

Dated: June 30, 2008.
Patricia L. Toppings,
OSD Federal Register Liaison Officer, Department of Defense.

A0215 CFSC

System name:

General Morale, Welfare, Recreation and Entertainment Records (October 17, 2001, 66 FR 52750).

Changes:

System identifier:

Delete entry and replace with “A0215 FMWRC.”

* * * * *

System location:

Delete entry and replace with “Headquarters, Family and Morale, Welfare and Recreation (MWR) Command, geographic data centers, installations and activities Army-wide. Official mailing addresses are published as an appendix to the Army's compilation of systems of records notices.”

Categories of individuals covered by the system:

Delete entry and replace with “Morale, Welfare and Recreation (MWR) Non-appropriated Fund (NAF) employees, military personnel, their families, other members of the military community, certain DoD civilian employees and their families overseas, certain military personnel of foreign nations and their families, personnel authorized to use Army-sponsored Morale, Welfare, Recreation (MWR) services, Child Development Services, youth services, athletic and recreational services, Armed Forces Recreation Centers, Army recreation machines, and/or to participate in MWR-type activities, to include sports, fitness programs, bingo games; professional entertainment groups recognized by the Armed Forces Entertainment; Army athletic team members; ticket holders of athletic events; units of national youth groups such as Boy Scouts, Girl Scouts, and 4-H Clubs.”

Categories of records in the system:

Delete entry and replace with “Name, address, and other pertinent information of members, family members, participants, patrons, and other authorized users. Employee data that includes, name, pay grade, pay rate, SSN, work center, special pays, and payroll elections for the reporting of time and attendance; pay-out control sheets, duty station, dates and amount of bingo winnings paid, and Internal Revenue Forms W2-G and 5754, (Gambling Winnings and Statement by Person(s) Receiving Gambling Winnings); vendor information such as company name, address, point-of contact, pricing information, and contract numbers; contracting information to include name, address, phone number of the person(s) initiating the contract.”

Authority for maintenance of the system:

Delete entry and replace with “10 U.S.C. 3013, Secretary of the Army; 26 U.S.C. 6041, Information at Source; DoD Directive 1015.2, Military Morale, Welfare and Recreation (MWR); DoD Instruction 1015.10, Program for Military Morale, Welfare and Recreation (MWR); AR 215-1, Morale, Welfare and Recreations Activities and Non-appropriated Fund Instrumentalities; AR 215-3, Nonappropriated Fund Personnel Policy; AR 215-4, Nonappropriated Fund Contracting; AR 608-10, Child Development Services and E.O. 9397 (SSN).”

Purpose(s):

Delete entry and replace with “To administer programs devoted to the mental and physical well-being of Army personnel and other authorized users; to document the approval and conduct of specific contests, shows, entertainment programs, sports activities/competitions, and other MWR-type activities and events sponsored or sanctioned by the Army.

Information is used for registration; reservations; track participation; pass management; report attendance; record sales transactions; maintain billing for individual households; collect payments; collect and report time and attendance of employees; process credit cards, personal checks, and debit cards; create and manage budgets; order and receive supplies and services; provide child care services reports; track inventory; and issue catered event contracts.

Information will be used to market and promote similar MWR type activities conducted by other DoD organizations. To provide a means of paying, recording, accounting, reporting, and controlling expenditures and merchandise inventories associated with retail operations, rentals, and activities such as bingo games.”

* * * * *

Storage:

Delete entry and replace with “Paper records in file folders and electronic storage media.”

Retrievability:

Delete entry and replace with “By household number, name, Social Security Number (SSN), employee PIN number, receipt number, contract number, product code or budget revision number.”

Safeguards:

Delete entry and replace with “Records are kept in datacenter facilities that are secured 24 hours a day with restricted access. Data access is restricted to specific individuals with a business “need-to-know” or having an official need therefore.”

* * * * *

System manager(s) and address:

Delete entry and replace with “Commander, Family and Morale Welfare and Recreation Command, 4700 King Street, Alexandria, VA 22302-4414.”

Notification procedure:

Delete entry and replace with “Individuals seeking to determine whether information about themselves is contained in this system should address written inquiries to the Director Family and Morale, Welfare and Recreation at the installation or activity where assigned.

Individuals must provide name, rank, Social Security Number (SSN), proof of identification and any other pertinent information necessary.”

Record access procedures:

Delete entry and replace with “Individuals seeking access to information about themselves contained in this system should address written inquiries to the Director Family and Morale, Welfare and Recreation at the installation or activity where assigned.

Individuals must provide name, rank, Social Security Number (SSN), proof of identification and any other pertinent information necessary.”

* * * * *

Record source categories:

Delete entry and replace with “From the individual patron via written forms or verbal interview; Defense Civilian Personnel Data System; time clerks; time-clocks; Vendors; inventory control sheets; contracts and sales transaction receipts.”

Exemptions claimed for the system:

None.

* * * * *

A0215 FMWRC

System name:

General Morale, Welfare, Recreation and Entertainment Records.

System location:

Headquarters, Family and Morale, Welfare and Recreation (MWR) Command, geographic data centers, installations and activities Army-wide. Official mailing addresses are published as an appendix to the Army's compilation of systems of records notices.

Categories of individuals covered by the system:

Morale, Welfare and Recreation (MWR) Non-appropriated Fund (NAF) employees, military personnel, their families, other members of the military community, certain DoD civilian employees and their families overseas, certain military personnel of foreign nations and their families, personnel authorized to use Army-sponsored Morale, Welfare, Recreation (MWR) services, Child Development Services, youth services, athletic and recreational services, Armed Forces Recreation Centers, Army recreation machines, and/or to participate in MWR-type activities, to include sports, fitness programs, bingo games; professional entertainment groups recognized by the Armed Forces Entertainment; Army athletic team members; ticket holders of athletic events; units of national youth groups such as Boy Scouts, Girl Scouts, and 4-H Clubs.

Categories of records in the system:

Name, address, and other pertinent information of members, family members, participants, patrons, and other authorized users. Employee data that includes, name, pay grade, pay rate, SSN, work center, special pays, and payroll elections for the reporting of time and attendance; pay-out control sheets, duty station, dates and amount of bingo winnings paid, and Internal Revenue Forms W2-G and 5754, (Gambling Winnings and Statement by Person(s) Receiving Gambling Winnings); vendor information such as company name, address, point-of contact, pricing information, and contract numbers; contracting information to include name, address, phone number of the person(s) initiating the contract.

Authority for maintenance of the system:

10 U.S.C. 3013, Secretary of the Army; 26 U.S.C. 6041, Information at Source; DoD Directive 1015.2, Military Morale, Welfare and Recreation (MWR); DoD Instruction 1015.10, Program for Military Morale, Welfare and Recreation (MWR); AR 215-1, Morale, Welfare and Recreations Activities and Non-appropriated Fund Instrumentalities; AR 215-3, Nonappropriated Fund Personnel Policy; AR 215-4, Nonappropriated Fund Contracting; AR 608-10, Child Development Services and E.O. 9397 (SSN).

Purpose(s):

To administer programs devoted to the mental and physical well-being of Army personnel and other authorized users; to document the approval and conduct of specific contests, shows, entertainment programs, sports activities/competitions, and other MWR-type activities and events sponsored or sanctioned by the Army.

Information is used for registration; reservations; track participation; pass management; report attendance; record sales transactions; maintain billing for individual households; collect payments; collect and report time and attendance of employees; process credit cards, personal checks, and debit cards; create and manage budgets; order and receive supplies and services; provide child care services reports; track inventory; and issue catered event contracts.

Information will be used to market and promote similar MWR type activities conducted by other DoD organizations.

To provide a means of paying, recording, accounting, reporting, and controlling expenditures and merchandise inventories associated with retail operations, rentals, and activities such as bingo games.

Routine uses of records maintained in the system, including categories of users and the purposes of such uses:

In addition to those disclosures generally permitted under 5 U.S.C. 552a(b) of the Privacy Act, these records or information contained are not generally disclosed outside the DoD as a routine use pursuant to 5 U.S.C. 552a(b)(3) except as follows:

To the Internal Revenue Service to report all monies and items of merchandise paid to winners of games whose one-time winnings are $1,200 or more.

The DoD `Blanket Routine Uses' set forth at the beginning of the Army's compilation of systems of records notices also apply to this system.

Policies and practices for storing, retrieving, accessing, retaining, and disposing of records in the system:

Storage:

Paper records in file folders and electronic storage media.

Retrievability:

By household number, name, Social Security Number (SSN), employee PIN number, receipt number, contract number, product code or budget revision number.

Safeguards:

Records are kept in datacenter facilities that are secured 24 hours a day with restricted access. Data access is restricted to specific individuals with a business “need-to-know” or having an official need therefore.

Retention and disposal:

Bingo records are maintained on-site for four years and then shipped to a Federal Records Center for storage for an additional three years. After seven years, records are destroyed. All other documents are destroyed after 2 years, unless required for current operation.

System manager(s) and address:

Commander, Family and Morale, Welfare and Recreation Command, 4700 King Street, Alexandria, VA 22302-4414.

Notification procedure:

Individuals seeking to determine whether information about themselves is contained in this system should address written inquiries to the Director Family and Morale, Welfare and Recreation at the installation or activity where assigned.

Individuals must provide name, rank, Social Security Number (SSN), proof of identification and any other pertinent information necessary.

Record access procedures:

Individuals seeking access to information about themselves contained in this system should address written inquiries to the Director Family and Morale, Welfare and Recreation at the installation or activity where assigned.

Individuals must provide name, rank, Social Security Number (SSN), proof of identification and any other pertinent information necessary.

Contesting record procedures:

The Army's rules for accessing records, and for contesting contents and appealing initial agency determinations are contained in Army Regulation 340-21; 32 CFR part 505; or may be obtained from the system manager.

Record source categories:

From the individual patron via written forms or verbal interview; Defense Civilian Personnel Data System; time clerks; time-clocks; Vendors; inventory control sheets; contracts and sales transaction receipts.

Exemptions claimed for the system:

None.

[FR Doc. E8-15296 Filed 7-3-08; 8:45 am]

BILLING CODE 5001-06-P